DEPARTMENT OF STATE

[Public Notice 5395]

Bureau of Educational and Cultural Affairs Request for Grant Proposals: Professional Development Program for Indian and Pakistani Teachers

Announcement Type: New Cooperative Agreement.

Catalog of Federal Domestic Assistance Number: 00.00.

Funding Opportunity Number: ECA/A/S/X-06-09.

Application Deadline: June 13, 2006.

Executive Summary: The Fulbright Teacher Exchange Branch in the Office of Global Educational Programs of the Bureau of Educational and Cultural Affairs (ECA) announces an open competition for a $500,000 grant to support the Professional Development Program for Indian and Pakistani Teachers. Accredited U.S. post-secondary educational institutions described in Internal Revenue Code section 26 U.S.C. 501(c)(3) with expertise in teaching English as a Foreign Language (EFL) may submit proposals which combine EFL teaching methodology, curriculum development, and development of leadership and communication skills for up to 30 Indian and Pakistani secondary school teachers. The program will begin with a six-week U.S.-based professional development program for the Indian and Pakistani educators and conclude with joint workshops in India and Pakistan for these teachers. The program should expose the educators to U.S. teaching methodologies, including educational tools designed to increase students' ability to deal with conflict and to cooperate effectively with people of diverse backgrounds. The program proposal should demonstrate the applicant's understanding of issues that are important in English language education in India and Pakistan and the applicant's experience developing educational programs and material for EFL teachers. Proposals should also demonstrate a sensitivity to challenges of educational cooperation between India and Pakistan.

I. Funding Opportunity Description

I.1. Authority

Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program above is provided through legislation.

1.2. Program Goals

1.2a. To strengthen EFL pedagogy and the leadership skills of teachers in India and Pakistan by giving secondary school teachers the opportunity to share best practices and methodology from their own countries with each other and to learn about EFL innovations in the United States.

1.2b. To introduce the teachers to conflict resolution concepts and tools for implementation in the classroom.

1.2c. To strengthen mutual understanding between India, Pakistan, and the U.S. by encouraging the teachers to develop meaningful working relationships with one another and their U.S. colleagues.

1.3. Planning

The cooperating institution will be responsible for conducting an initial planning visit to India, and, if feasible, Pakistan, to consult with representatives from the respective United States Educational Foundations (Fulbright Commissions) in India and Pakistan, Ministries of Education, and local educators. The cooperating institution should also consult with the Department of State's Regional English Language Officer (RELO) based at the U.S. Embassy in New Delhi. RELOs are credentialed, experienced foreign service and English as a Foreign Language officers based at U.S. embassies who work with host-country Ministries of Education, universities and teacher-training officials on targeted English language programs. Based on assessments made during this planning visit, the cooperating institution will develop a recruitment plan, a detailed schedule, and curriculum for the U.S.-based program.

The Fulbright Commissions in India and Pakistan will recruit and select participants for the program with support from the cooperating institution. The cooperating institution will be responsible for preparing publicity, recruitment and selection materials, including an application form. Special efforts will be made to recruit teachers working in non-elite institutions.

Prior to participants' departure for the United States, the Fulbright Commissions in India and Pakistan will conduct pre-departure orientations for participants from their respective countries based on information provided by the cooperating institution. The orientations will provide information about the program, goals, and our expectations of participants, as well as address issues about the participants' stay in the U.S. The cooperating institution will work closely with both Fulbright Commissions to organize the orientations and will develop orientation packets for each participant that cover the aforementioned material. Packets will be sent to the Fulbright Commissions in advance of the scheduled pre-departure orientations. The cooperating institution also should develop a Web site on the program for use during the pre-departure orientation sessions and during subsequent program stages.

1.4. Program Components

The applicant should design and implement a two-phased program: a U.S professional development program for Indian and Pakistani secondary school teachers and subsequent workshops in India and Pakistan for these program participants.

(a) Pending the availability of funds, the U.S.-based six-week professional development program will begin in Spring 2007. The program must comply with J-1 visa regulations. Please refer to the Solicitation Package for further information.

The U.S. program should meet the needs of the Indian and Pakistani participants through EFL instruction as well as curriculum and professional development programs. The program should update the secondary school teachers on best practices in EFL instruction and should also present skills for interacting harmoniously with people of different backgrounds. EFL methodologies focusing on student-centered learning; teaching tolerance, mutual respect, and trust building; strengthening of students' problem-solving, cross-cultural communication, and leadership skills; and computer literacy for EFL instruction should all be included in the program. Time should be allotted to activities outside of the classroom such as visits to schools, team-teaching with U.S. teachers, and attendance at professional meetings. The six-week program should conclude with a visit of three days to Washington, DC. This visit should include meetings with representatives of the Department of State, other government agencies, schools, and private-sector educational associations as well as trips to local educational and cultural sites.

(b) The workshops abroad, the second program component, should begin approximately six months after the conclusion of the U.S. training program. There will be one in India and one in Pakistan. The fifteen Pakistani participants will travel to India to join their Indian counterparts and help facilitate a workshop for 100 additional Indian teachers. Subsequently, the fifteen Indian participants will travel to Pakistan for a similar joint workshop for 100 additional Pakistani teachers. Each of these workshops should be approximately two days in length and at least one month should elapse between them.

The cooperating institution will coordinate program plans and schedules with ECA's Fulbright Teacher Exchange Branch (ECA/A/S/X) as well as with the Fulbright Commissions in India and Pakistan and the Regional English Language Officer (RELO) based at the U.S. Embassy in New Delhi. The Fulbright Teacher Exchange Branch will approve final program schedules before program implementation.

II. Award Information

Type of Award: Cooperative Agreement.

Fiscal Year Funds: FY 2006.

Approximate Total Funding: $500,000.

Approximate Number of Awards: 1.

Approximate Average Award: $500,000.

Anticipated Award Date: September 1, 2006.

Anticipated Project Completion Date: March 31, 2008.

Additional Information: Pending successful implementation of this program and the availability of funds in subsequent fiscal years, ECA retains the option to renew this grant for two additional years, before openly competing it again.

Eligibility Information

III.1. Eligible Applicants

Applications may be submitted by accredited U.S. post-secondary institutions meeting the provisions described in Internal Revenue Code section 26 U.S.C. 501(c)(3).

III.2. Cost Sharing or Matching Funds

There is no minimum or maximum percentage required for this competition; however, the Bureau encourages applicants to provide maximum levels of cost sharing and funding in support of its programs.

When cost sharing is offered, it is understood and agreed that the applicant must provide the amount of cost sharing as stipulated in its proposal and later included in an approved grant agreement. Cost sharing may be in the form of allowable direct or indirect costs. For accountability, you must maintain written records to support all costs that are claimed as your contribution, as well as costs to be paid by the Federal government. Such records are subject to audit. The basis for determining the value of cash and in-kind contributions must be in accordance with OMB Circular A-110, (Revised), Subpart C.23—Cost Sharing and Matching. In the event you do not provide the minimum amount of cost sharing as stipulated in the approved budget, ECA's contribution will be reduced in like proportion.

III.3. Other Eligibility Requirements

Bureau grant guidelines require that organizations with less than four years experience in conducting international exchanges are limited to $60,000 in Bureau funding. ECA anticipates awarding one grant, in an amount up to $500,000 to support program and administrative costs required to implement this exchange program. Therefore, organizations with less than four years experience in conducting international exchanges are ineligible to apply under this competition. The Bureau encourages applicants to provide maximum levels of cost sharing and funding in support of its programs.

IV. Application and Submission Information

Note: Please read the complete announcement before sending inquiries or submitting proposals. Once the RFGP deadline has passed, Bureau staff may not discuss this competition with applicants until the proposal review process has been completed.

IV.1. Contact Information to Request an Application Package

Please contact the Office of Global Educational Programs, ECA/A/S/X, Room 349, U.S. Department of State, SA-44, 301 4th Street, SW., Washington, DC 20547, tel. (202) 453-8897, fax (202) 453-8890, or e-mail Mosleypj@state.gov to request a Solicitation Package. Please refer to the Funding Opportunity Number ECA/A/S/X 06-09 located at the top of this announcement when making your request. Alternatively, an electronic application package may be obtained from grants.gov. Please see section IV.3f for further information.

The Solicitation Package contains the Proposal Submission Instruction (PSI) document, which consists of required application forms, and standard guidelines for proposal preparation.

It also contains the Project Objectives, Goals and Implementation (POGI) document, which provides specific information, award criteria and budget instructions tailored to this competition.

Please specify Program Officer Joan Zaffarano and refer to the Funding Opportunity Number ECA/A/S/X 06-09 located at the top of this announcement on all other inquiries and correspondence.

IV.2. To Download a Solicitation Package Via Internet

The entire Solicitation Package may be downloaded from the Bureau's Web site at http://exchanges.state.gov/education/rfgps/menu.htm. or from the Grants.gov Web site at http://www.grants.gov. Please read all information before downloading.

IV.3. Content and Form of Submission

Applicants must follow all instructions in the Solicitation Package. The original and seven copies of the application should be sent per the instructions under IV.3f. “Application Deadline and Methods of Submission” section below.

IV.3a. You are required to have a Dun and Bradstreet Data Universal Numbering System (DUNS) number to apply for a grant or cooperative agreement from the U.S. Government. This number is a nine-digit identification number, which uniquely identifies business entities. Obtaining a DUNS number is easy and there is no charge. To obtain a DUNS number, access http://www.dunandbradstreet.com or call 1-866-705-5711. Please ensure that your DUNS number is included in the appropriate box of the SF-424 which is part of the formal application package.

IV.3b. All proposals must contain an executive summary, proposal narrative and budget.

Please Refer to the Solicitation Package. It contains the mandatory Proposal Submission Instructions (PSI) document and the Project Objectives, Goals and Implementation (POGI) document for additional formatting and technical requirements.

IV.3c. You must have nonprofit status with the IRS at the time of application. If your organization is a private nonprofit which has not received a grant or cooperative agreement from ECA in the past three years, or if your organization received nonprofit status from the IRS within the past four years, you must submit the necessary documentation to verify nonprofit status as directed in the PSI document. Failure to do so will cause your proposal to be declared technically ineligible.

IV.3d. Please take into consideration the following information when preparing your proposal narrative:

IV.3d.1. Adherence to All Regulations Governing the J Visa. The Bureau of Educational and Cultural Affairs is placing renewed emphasis on the secure and proper administration of Exchange Visitor (J visa) Programs and adherence by grantees and sponsors to all regulations governing the J visa. Therefore, proposals should demonstrate the applicant's capacity to meet all requirements governing the administration of the Exchange Visitor Programs as set forth in 22 CFR 62, including the oversight of Responsible Officers and Alternate Responsible Officers, screening and selection of program participants, provision of pre-arrival information and orientation to participants, monitoring of participants, proper maintenance and security of forms, record-keeping, reporting and other requirements. The cooperating institution will be responsible for issuing DS-2019 forms to participants in this program.

A copy of the complete regulations governing the administration of Exchange Visitor (J) programs is available at http://exchanges.state.gov or from: United States Department of State, Office of Exchange Coordination and Designation, ECA/EC/ECD—SA-44, Room 734, 301 4th Street, SW., Washington, DC 20547. Telephone: (202) 203-5029. FAX: (202) 453-8640.

Please refer to Solicitation Package for further information.

IV.3d.2. Diversity, Freedom and Democracy Guidelines. Pursuant to the Bureau's authorizing legislation, programs must maintain a non-political character and should be balanced and representative of the diversity of American political, social, and cultural life. “Diversity” should be interpreted in the broadest sense and encompass differences including, but not limited to ethnicity, race, gender, religion, geographic location, socio-economic status, and disabilities. Applicants are strongly encouraged to adhere to the advancement of this principle both in program administration and in program content. Please refer to the review criteria under the ‘Support for Diversity' section for specific suggestions on incorporating diversity into your proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

IV.3d.3. Program Monitoring and Evaluation. Proposals must include a plan to monitor and evaluate the project's success, both as the activities unfold and at the end of the program. The Bureau recommends that your proposal include a draft survey questionnaire or other technique plus a description of a methodology to use to link outcomes to original project objectives. The Bureau expects that the cooperating institution will track participants or partners and be able to respond to key evaluation questions, including satisfaction with the program, learning as a result of the program, changes in behavior as a result of the program, and effects of the program on institutions (institutions in which participants work or partner institutions). The evaluation plan should include indicators that measure gains in mutual understanding as well as substantive knowledge.

Successful monitoring and evaluation depend heavily on setting clear goals and outcomes at the outset of a program. Your evaluation plan should include a description of your project's objectives, your anticipated project outcomes, and how and when you intend to measure these outcomes (performance indicators). The more that outcomes are “smart” (specific, measurable, attainable, results-oriented, and placed in a reasonable time frame), the easier it will be to conduct the evaluation. You should also show how your project objectives link to the goals of the program described in this RFGP.

Your monitoring and evaluation plan should clearly distinguish between program outputs and outcomes. Outputs are products and services delivered, often stated as an amount. Output information is important to show the scope or size of project activities, but it cannot substitute for information about progress towards outcomes or the results achieved. Examples of outputs include the number of people trained or the number of seminars conducted. Outcomes, in contrast, represent specific results a project is intended to achieve and is usually measured as an extent of change. Findings on outputs and outcomes should both be reported, but the focus should be on outcomes.

We encourage you to assess the following four levels of outcomes, as they relate to the program goals set out in the RFGP (listed here in increasing order of importance):

1. Participant satisfaction with the program and exchange experience.

2. Participant learning, such as increased knowledge, aptitude, skills, and changed understanding and attitude. Learning includes both substantive (subject-specific) learning and mutual understanding.

3. Participant behavior, concrete actions to apply knowledge in work or community; greater participation and responsibility in civic organizations; interpretation and explanation of experiences and new knowledge gained; continued contacts between participants, community members, and others.

4. Institutional changes, such as increased collaboration and partnerships, policy reforms, new programming, and organizational improvements.

Please note: Consideration should be given to the appropriate timing of data collection for each level of outcome. For example, satisfaction is usually captured as a short-term outcome, whereas behavior and institutional changes are normally considered longer-term outcomes.

Overall, the quality of your monitoring and evaluation plan will be judged on how well it (1) Specifies intended outcomes; (2) gives clear descriptions of how each outcome will be measured; (3) identifies when particular outcomes will be measured; and (4) provides a clear description of the data collection strategies for each outcome (i.e., surveys, interviews, or focus groups). (Please note that evaluation plans that deal only with the first level of outcomes [satisfaction] will be deemed less competitive under the present evaluation criteria.)

Cooperating institutions will be required to provide reports analyzing their evaluation findings to the Bureau in their regular program reports. All data collected, including survey responses and contact information, must be maintained for a minimum of three years and provided to the Bureau upon request.

IV.3d.4. Describe your plans for: sustainability, overall program management, staffing, and coordination with ECA/A/S/X, the RELO at the U.S. Embassy in New Delhi and the Fulbright Commissions of India and Pakistan.

ECA/A/S/X considers program management, staffing and coordination with the Department of State essential elements of the program. Please be sure to give sufficient attention to these elements in your proposal by providing a staffing plan that outlines the responsibilities of each staff person and explains which staff member will be accountable for each program responsibility. Wherever possible please streamline administrative processes. Please refer to the POGI in the Solicitation Package for specific guidelines.

IV.3e. Please take the following information into consideration when preparing your budget:

IV.3e.1. Applicants must submit a comprehensive budget for the entire program. The budget should not exceed $500,000 for program and administrative costs. There must be a summary budget as well as breakdowns reflecting both administrative and program budgets. Applicants may provide separate sub-budgets for each program component, phase, location, or activity to provide clarification.

IV.3f. Application Deadline and Methods of Submission: Application Deadline Date: June 13, 2006. Reference Number: ECA/A/S/X-06-09.

IV.3f.1. Applications may be submitted in one of two ways:

1. In hard-copy, via a nationally recognized overnight delivery service (i.e., DHL, Federal Express, UPS, Airborne Express, or U.S. Postal Service Express Overnight Mail, etc.), or

2. Electronically through http://www.grants.gov.

Along with the Project Title, all applicants must enter the above Reference Number in Box 11 on the SF-424 contained in the mandatory Proposal Submission Instructions (PSI) of the solicitation document.

IV.3f.2. Submitting Printed Applications. Applications must be shipped no later than the above deadline. Delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadlines are ineligible for consideration under this competition. ECA will not notify you upon receipt of application. It is each applicant's responsibility to ensure that each package is marked with a legible tracking number and to monitor/confirm delivery to ECA via the Internet. Delivery of proposal packages may not be made via local courier service or in person for this competition. Faxed documents will not be accepted at any time. Only proposals submitted as stated above will be considered.

Important note: When preparing your submission please make sure to include one extra copy of the completed SF-424 form and place it in an envelope addressed to “ECA/EX/PM”.

The original and eight copies of the application should be sent to: U.S. Department of State, SA-44, Bureau of Educational and Cultural Affairs, Ref.: ECA/A/S/X-06-09, Program Management, ECA/EX/PM, Room 534, 301 4th Street, SW., Washington, DC 20547.

Applicants submitting hard-copy applications must also submit the “Executive Summary” and “Proposal Narrative” sections of the proposal in text (.txt) format on a PC-formatted disk. The Bureau will provide these files electronically to the appropriate Public Affairs Sections at the U.S. embassies for their review.

IV.3f.2. Submitting Electronic Applications. Applicants have the option of submitting proposals electronically through Grants.gov (http://www.grants.gov). Complete solicitation packages are available at Grants.gov in the “Find” portion of the system. Please follow the instructions available in the “Get Started” portion of the site (http://www.grants.gov/GetStarted).

Applicants have until midnight (12 a.m.) of the closing date to ensure that their entire application has been uploaded to the grants.gov site. Applications uploaded to the site after midnight of the application deadline date will be automatically rejected by the grants.gov system, and will be technically ineligible.

Applicants will receive confirmation e-mail from grants.gov upon the successful submission of an application. ECA will not notify you upon receipt of electronic applications.

IV.3g. Intergovernmental Review of Applications: Executive Order 12372 does not apply to this program.

V. Application Review Information

V.1. Review Process

The Bureau will review all proposals for technical eligibility. Proposals will be deemed ineligible if they do not fully adhere to the guidelines stated herein and in the Solicitation Package. The program office, as well as the Public Diplomacy section overseas, where appropriate will review all eligible proposals. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for assistance awards (cooperative agreements) resides with the Bureau's Grants Officer.

Review Criteria

Technically eligible applications will be competitively reviewed according to the criteria stated below. These criteria are not rank ordered and all carry equal weight in the proposal evaluation:

1. Program Development and Management: The proposal narrative should exhibit originality, substance, precision, and relevance to the Bureau's mission as well as the objectives of the program. The proposal should demonstrate substantive expertise in the development of English as a Foreign language and conflict resolution programs for educators. Proposals should illustrate effective use of community and regional resources to enhance the educational and cultural expertise of the participants. The program plan should be well conceived. Administrative resources should be adequate to support effective project administration.

2. Ability to achieve program objectives: Objectives should be reasonable, feasible, and flexible. Proposals should clearly demonstrate how the institution will meet the program objectives.

3. Support of Diversity: Proposals should demonstrate substantive support of the Bureau's policy on diversity. Achievable and relevant features should be cited in both program administration (staffing, program venue and program evaluation) and program content (orientation and workshop sessions, program meetings, resource materials and follow-up activities).

4. Institutional Capacity and Record: Proposals should demonstrate an institutional record of successful exchange programs, including responsible fiscal management and full compliance with all reporting requirements for past Bureau grants as determined by Bureau Grants Staff. Proposed personnel and institutional resources should be adequate and appropriate to achieve the program's goals.

5. Project Evaluation: Proposals should include a plan to evaluate the project's success, both as the activities unfold and at the end of the program. Draft survey questionnaires or other techniques plus description of methodologies to use to link outcomes to original project objectives are recommended. Successful applicants will be expected to submit intermediate reports after the U.S.-based training program, and other project components are concluded, or quarterly, whichever is less frequent.

6. Cost-effectiveness and Cost Sharing: The overhead and administrative components of the proposal, including salaries and honoraria, should be kept as low as possible. All other items should be necessary and appropriate. Proposals should maximize cost sharing through other private sector support as well as institutional direct funding contributions.

7. Follow-on and Alumni Activities: Proposals should provide a plan for continued follow-on activity (both with and without Bureau support) ensuring that the Professional Development Program for Indian and Pakistani Teachers is not an isolated event.

VI. Award Administration Information

VI.1a. Award Notices. Final awards cannot be made until funds have been appropriated by Congress, allocated and committed through internal Bureau procedures. Successful applicants will receive an Assistance Award Document (AAD) from the Bureau's Grants Office. The AAD and the original grant proposal with subsequent modifications (if applicable) shall be the only binding authorizing document between the recipient and the U.S. Government. The AAD will be signed by an authorized Grants Officer, and mailed to the recipient's responsible officer identified in the application.

Unsuccessful applicants will receive notification of the results of the application review from the ECA program office coordinating this competition.

VI.2. Administrative and National Policy Requirements

Terms and Conditions for the Administration of ECA agreements include the following:

Office of Management and Budget Circular A-122, “Cost Principles for Nonprofit Organizations.”

Office of Management and Budget Circular A-21, “Cost Principles for Educational Institutions.”

OMB Circular A-87, “Cost Principles for State, Local and Indian Governments”.

OMB Circular No. A-110 (Revised), Uniform Administrative Requirements for Grants and Agreements with Institutions of Higher Education, Hospitals, and other Nonprofit Organizations.

OMB Circular No. A-102, Uniform Administrative Requirements for Grants-in-Aid to State and Local Governments.

OMB Circular No. A-133, Audits of States, Local Government, and Non-profit Organizations.

Please reference the following Web sites for additional information: http://www.whitehouse.gov/omb/grants. http://exchanges.state.gov/education/grantsdiv/terms.htm#articleI.

VI.3. Reporting Requirements

You must provide ECA with a hard copy original plus one copy of the following reports: Intermediate reports after each project component (i.e., U.S.-based program and then workshops in India and Pakistan) or quarterly reports, whichever is less frequent and final program and financial report no more than 90 days after the expiration of the award.

Cooperating institutions will be required to provide reports analyzing their evaluation findings to the Bureau in their regular program reports. (Please refer to Application and Submission Instructions (IV.3.d.3) above for Program Monitoring and Evaluation information.)

All data collected, including survey responses and contact information, must be maintained for a minimum of three years and provided to the Bureau upon request.

All reports must be sent to the ECA Grants Officer and ECA Program Officer listed in the final assistance award document.

VII. Agency Contacts

For questions about this announcement, contact Program Officer Joan Zaffarano, Office of Global Educational Programs, Room 349, ECA/A/S/X-06-09, U.S. Department of State, SA-44, 301 4th Street, SW., Washington, DC 20547; telephone (202) 453-8863; fax number (202) 453-8890, and e-mail: ZaffaranoJG@state.gov.

All correspondence with the Bureau concerning this RFGP should reference the above title and number ECA/A/S/X-06-09. Please read the complete announcement before sending inquiries or submitting proposals. Once the RFGP deadline has passed, Bureau staff may not discuss this competition with applicants until the proposal review process has been completed.

VIII. Other Information

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements per section VI.3 above.

Dated: April 21, 2006.
C. Miller Crouch,
Principal Deputy Assistant Secretary, Bureau of Educational and Cultural Affairs, Department of State.

[FR Doc. E6-6359 Filed 4-26-06; 8:45 am]

BILLING CODE 4710-05-P